DEPARTMENT OF THE INTERIOR

Fish and Wildlife Service

Endangered and Threatened Wildlife and Plants; 5-Year Review of 22 Southeastern Species

AGENCY: Fish and Wildlife Service, Interior.

ACTION: Notice.

SUMMARY: The Fish and Wildlife Service is initiating 5-year reviews of the Southeastern beach mouse (Peromyscus polionotus niveiventris), rice rat (Oryzomys palustris natator), Florida salt marsh vole (Microtus pennsylvanicus dukecampbelli), Key Largo woodrat (Neotoma floridana smalli), Florida grasshopper sparrow (Ammodramus savannarum floridanus), Atlantic salt marsh snake (Nerodia clarkii taeniata), Schaus swallowtail butterfly (Heraclides aristodemus ponceanus), Squirrel Chimney Cave shrimp (Palaemonetes cummingi), Florida bonamia (Bonamia grandiflora), pigeon wings (Clitoria fragrans), short-leaved rosemary (Conradina brevifolia), Rugel's pawpaw (Deeringothamnus rugelii), longspurred mint (Dicerandra cornutissima), Lakela's mint (Dicerandra immaculata), scrub buckwheat (Eriogonum longifolium var. gnaphalifolium), Telephus spurge (Euphorbia telephioides), Highlands scrub hypericum (Hypericum cumulicola), scrub lupine (Lupinus aridorum), papery whitlow-wort (Paronychia chartacea), Miccosukee gooseberry (Ribes echinellum), Cooley's meadowrue (Thalictrum cooleyi), and Carter's mustard (Warea carteri), under section 4(c)(2) of the Endangered Species Act of 1973 (16 U.S.C. 1531 et seq.), as amended (Act). The purpose of reviews conducted under this section of the Act is to ensure that the classification of species as threatened or endangered on the List of Endangered and Threatened Wildlife and Plants (50 CFR 17.11 and 17.12) is accurate. A 5-year review is an assessment of the best scientific and commercial data available at the time of the review.

DATES: To allow us adequate time to conduct this review, information submitted for our consideration must be received on or before June 25, 2007. However, we will continue to accept new information about any listed species at any time.

ADDRESSES: Information submitted on the Southeastern beach mouse, Florida salt marsh vole, Atlantic salt marsh snake, Squirrel Chimney Cave shrimp, longspurred mint, scrub lupine, Florida bonamia, scrub buckwheat, and Rugel's pawpaw should be sent to Sandy MacPherson, Jacksonville Field Office, U.S. Fish and Wildlife Service, 6620 Southpoint Drive South, Suite 310, Jacksonville, Florida 32216, fax 904-232-2404. Information on the Key Largo woodrat, rice rat, Florida grasshopper sparrow, Schaus swallowtail butterfly, pigeon wings, Lakela's mint, Carter's mustard, Highlands scrub hypericum, short-leaved rosemary, and papery whitlow-wort should be sent to Cindy Schulz, South Florida Ecological Services Office, U.S. Fish and Wildlife Service, 1339 20th Street, Vero Beach, Florida 32960, fax 772-562-4288. Information on the Telephus spurge and Miccosukee gooseberry should be sent to Janet Mizzi, Panama City Field Office, U.S. Fish and Wildlife Service, 1601 Balboa Avenue, Panama City, Florida 32405, fax 850-763-2177. Information on Cooley's meadowrue should be sent to Pete Benjamin, Raleigh Field Office, U.S. Fish and Wildlife Service, 551-F Pylon Drive, Raleigh, North Carolina 27636, fax 919-856-4520. Information received in response to this notice of review will be available for public inspection by appointment, during normal business hours, at the same addresses.

FOR FURTHER INFORMATION CONTACT: Sandy MacPherson at the Jacksonville, Florida, address above (telephone, 904/232-2580, ext. 110, e-mail sandy_macpherson@fws.gov); Cindy Schulz at the Vero Beach, Florida, address above (telephone, 772/562-3909, ext. 305, e-mail cindy_schulz@fws.gov); Janet Mizzi at the Panama City, Florida, address above (telephone, 850/769-0552, ext. 247, e-mail janet_mizzi@fws.gov); and Dale Suiter at the Raleigh, North Carolina, address above (telephone, 919/856-4520, ext. 18, e-mail dale_suiter@fws.gov).

SUPPLEMENTARY INFORMATION: Under the Act, the Service maintains a list of endangered and threatened wildlife and plant species at 50 CFR 17.11 (for wildlife) and 17.12 (for plants) (collectively referred to as the List). Section 4(c)(2)(A) of the Act requires that we conduct a review of listed species at least once every 5 years. Then, on the basis of such reviews, under section 4(c)(2)(B), we determine whether or not any species should be removed from the List (delisted), or reclassified from endangered to threatened or from threatened to endangered. Delisting a species must be supported by the best scientific and commercial data available and only considered if such data substantiate that the species is neither endangered nor threatened for one or more of the following reasons: (1) The species is considered extinct; (2) the species is considered to be recovered; and/or (3) the original data available when the species was listed, or the interpretation of such data, were in error. Any change in Federal classification would require a separate rulemaking process. Amendments to the List through final rules are published in the Federal Register.

The regulations at 50 CFR 424.21 require that we publish a notice in the Federal Register announcing those species currently under active review. This notice announces our active review of the following species that are currently listed as endangered: rice rat, Florida salt marsh vole, Key Largo woodrat, Florida grasshopper sparrow, Schaus swallowtail butterfly, short-leaved rosemary, Rugel's pawpaw, longspurred mint, Lakela's mint, Telephus spurge, Highlands scrub hypericum, scrub lupine, Cooley's meadowrue, and Carter's mustard. This notice also announces our active review of the following species that are currently listed as threatened: Southeastern beach mouse, Atlantic salt marsh snake, Squirrel Chimney Cave shrimp, Florida bonamia, pigeon wings, scrub buckwheat, papery whitlow-wort, and Miccosukee gooseberry.

The List is also available on our internet site at http://endangered.fws.gov/wildlife.html#Species.

What information is considered in the review?

A 5-year review will consider the best scientific and commercial data that have become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List, and improved analytical methods.

Definitions Related to This Notice

The following definitions are provided to assist those persons who contemplate submitting information regarding the species being reviewed:

A. Species includes any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How do we determine whether a species is endangered or threatened?

Section 4(a)(1) of the Act establishes that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence.

What could happen as a result of this review?

If we find that there is new information concerning any of these 22 species indicating that a change in classification may be warranted, we may propose a new rule that could do one of the following: (a) Reclassify the species from endangered to threatened; (b) reclassify the species from threatened to endangered; or (c) delist the species. If we determine that a change in classification is not warranted, then the species will remain on the List under its current status.

Public Solicitation of New Information

We request any new information concerning the status of any of these 22 species. See “What information is considered in the review?” heading for specific criteria. Information submitted should be supported by documentation such as maps, bibliographic references, methods used to gather and analyze the data, and/or copies of any pertinent publications, reports, or letters by knowledgeable sources. Our practice is to make comments, including names and home addresses of respondents, available for public review during regular business hours. Individual respondents may request that we withhold their names and home addresses, etc., but if you wish us to consider withholding this information, you must state this prominently at the beginning of your comments. In addition, you must present rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Authority: This document is published under the authority of the Endangered Species Act (16 U.S.C. 1531 et seq.).

Dated: March 29, 2007.
Cynthia K. Dohner,
Acting Regional Director, Southeast Region.

[FR Doc. E7-8006 Filed 4-25-07; 8:45 am]

BILLING CODE 4310-55-P